DEPARTMENT OF HEALTH AND HUMAN SERVICES

National Institutes of Health

National Institute of Allergy and Infectious Diseases; Amended Notice of Meeting

Notice is hereby given of a change in the meeting of the National Institute of Allergy and Infectious Diseases Special Emphasis Panel, May 25, 2022, 12:00 p.m. to 02:00 p.m., National Institute of Allergy and Infectious Diseases, National Institutes of Health, 5601 Fishers Lane, Room 4F52, Rockville, MD 20892, which was published in the Federal Register on April 15, 2022, FR Doc 2022-08087, 87 FR 22541.

This notice is being amended to change to the date from May 25, 2022, to June 27, 2022, due to changes in reviewer availability. The meeting is closed to the public.

Dated: May 27, 2022.
Tyeshia M. Roberson-Curtis,
Program Analyst, Office of Federal Advisory Committee Policy.

[FR Doc. 2022-11872 Filed 6-2-22; 8:45 am]

BILLING CODE 4140-01-P